DEPARTMENT OF COMMERCE

National Oceanic and Atmospheric Administration

Agency Information Collection Activities; Submission to the Office of Management and Budget (OMB) for Review and Approval; Comment Request; Marine Recreational Fishing Expenditure Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 24, 2020 during a 60-day comment period. This notice allows for an additional 30 days for public comments.

Agency: National Oceanic and Atmospheric Administration (NOAA), Commerce.

Title: Marine Recreational Fishing Expenditure Survey.

OMB Control Number: 0648-0693.

Form Number(s): None.

Type of Request: Regular submission (revision and extension of a current information collection).

Number of Respondents: 28,474 annualized.

Average Hours per Response: Durable goods expenditure survey, 15 minutes; trip expenditure survey 5 minutes.

Total Annual Burden Hours: 3,215.

Needs and Uses: The purpose of this data collection is to gather information on marine recreational anglers' expenditures on fishing trips and durable goods related to fishing. These data are used in fisheries management analyses by state fisheries agencies, regional fishery management councils, and NOAA Fisheries to understand the economic effects of fisheries regulations and policies. The revision consists of adding back in the trip expenditure survey for fishing trips targeting highly migratory species as was included in the 2014 approval.

Affected Public: Individuals.

Frequency: Every 3 years.

Respondent's Obligation: Voluntary.

Legal Authority: Magnuson-Stevens Fishery Conservation and Management Act as reauthorized in 2007 (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0693.

Sheleen Dumas,
Department PRA Clearance Officer, Office of the Chief Information Officer, Commerce Department.

[FR Doc. 2020-14677 Filed 7-7-20; 8:45 am]

BILLING CODE 3510-22-P